DEPARTMENT OF LABOR

Employment and Training Administration

[NAFTA-05836]

Tyco Electronics Corporation, Jacobus, PA; Notice of Negative Determination Regarding Application for Reconsideration

By application postmarked March 22, 2002, an employee requested administrative reconsideration of the Department's negative determination regarding eligibility to apply for North American Free Trade Agreement-Transitional Adjustment Assistance (NAFTA-TAA), applicable to workers and former workers of the subject firm. The denial notice was signed on February 28, 2002, and was published in the Federal Register on March 20, 2002 (67 FR 13011).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The denial of NAFTA-TAA for workers engaged in activities related to the production of electrical connectors at Tyco Electronics Corporation, Jacobus, Pennsylvania including an offsite warehouse at Shrewsbury, Pennsylvania was based on the finding that criteria (3) and (4) of the group eligibility requirements of paragraph (a)(1) of section 250 of the Trade Act, as amended, were not met. The company did not shift production of electrical connectors to Canada or Mexico and did not import electrical connectors from Canada or Mexico. The predominant cause of worker separations at the subject plant is due to a domestic shift of production to other affiliated domestic locations.

The petitioner appears to be alleging that the company shifted a portion of subject plant production to Mexico. The petitioner further believes that the subject firm imports electrical connectors to the United States. The petitioner attached shipping invoices to depict various imports by the company.

Based on information provided during the initial investigation and recent contact with the company, no shifts in plant production occurred during the relevant period. All subject plant production was shifted to other domestic sources. The information supplied by the company further indicates that they did not import any products like or directly competitive with what the subject plant produced.

The petitioner attached three shipping invoices to illustrate the various products imported by the company. Two of the three shipping invoices consisted of products imported from countries other than Canada or Mexico to the subject plant. The third invoice shows that the company imports some type of product from Mexico. The company was contacted concerning the invoices and indicated that the imported products were component parts used to produce the finished electrical connectors. The imported products, must be like or directly competitive with what the subject plant produces to meet the eligibility requirements for NAFTA-TAA under section 250 of the Trade Act of 1974.

Conclusion

After review of the application for reconsideration and investigative findings, I conclude that there has been no error or misinterpretation of the law or of the facts which would justify reconsideration of the Department of Labor's prior decisions. Accordingly, the application is denied.

Signed at Washington, DC, this 5th day of July 2002.
Edward A. Tomchick,
Director, Division of Trade Adjustment Assistance.

[FR Doc. 02-18078 Filed 7-17-02; 8:45 am]

BILLING CODE 4510-30-P